DEPARTMENT OF JUSTICE

Office of Justice Programs

[OJP (OJJDP) Docket No. 1829]

Charter Renewal of the Coordinating Council on Juvenile Justice and Delinquency Prevention

AGENCY: Office of Juvenile Justice and Delinquency Prevention, Office of Justice Programs, Department of Justice.

ACTION: Notice of charter renewal.

SUMMARY: Notice that the charter of the Coordinating Council on Juvenile Justice and Delinquency Prevention has been renewed.

FOR FURTHER INFORMATION CONTACT: Visit the website for the Coordinating Council on Juvenile Justice and Delinquency Prevention at https://juvenilecouncil.ojp.gov/ or contact Maegen Barnes, Project Manager/Federal Contractor, by telephone (732) 948-8862, email at Maegen.Currie@usdoj.gov; or Julie Herr, Designated Federal Official (DFO), OJJDP, by telephone at (202) 598-6885, email at Julie.Herr@usdoj.gov. Please note that the above phone numbers are not toll free.

SUPPLEMENTARY INFORMATION: This Federal Register Notice notifies the public that the Charter of the Coordinating Council on Juvenile Justice and Delinquency Prevention has been renewed in accordance with the Federal Advisory Committee Act, section 14(a)(1). The Coordinating Council on Juvenile Justice and Delinquency Prevention Charter was renewed on July 5, 2024. One can obtain a copy of the renewal Charter by accessing the Coordinating Council on Juvenile Justice and Delinquency Prevention's website at https://juvenilecouncil.ojp.gov/.

Julie Herr,
Designated Federal Official, Office of Juvenile Justice and Delinquency Prevention.

[FR Doc. 2024-18508 Filed 8-16-24; 8:45 am]

BILLING CODE 4410-18-P